DEPARTMENT OF COMMERCE

National Oceanic and Atmospheric Administration

[I.D. 100804B]

Western Pacific Fishery Management Council; Public Scoping Meetings on Ecosystem-based Fisheries Management Within the U.S. Exclusive Economic Zone of the Western Pacific Region

AGENCY: National Marine Fisheries Service (NMFS), National Oceanic and Atmospheric Administration (NOAA), Commerce.

ACTION: Notice of Intent to prepare a programmatic environmental impact statement (PEIS); notice of scoping meetings; request for written comments.

SUMMARY: The Western Pacific Fishery Management Council (Council) and NMFS announce their intent to prepare a PEIS in accordance with the National Environmental Policy Act of 1969 (NEPA) on the development of an ecosystem-based fisheries management regime in the Western Pacific Region. The Council and NMFS are jointly holding public scoping meetings throughout the region to solicit comments on management options for ecosystem-based fisheries management. The scoping meetings and written comments will provide for public input on the issues, range of alternatives, impacts, and any other issues or concerns related to the proposed action which should be analyzed in detail in the PEIS, as described in this scoping notice.

DATES: Public scoping meetings will be held in October, November and December 2004. See SUPPLEMENTARY INFORMATION for specific dates, times, and locations of hearings. Written comments must be received by January 3, 2005.

ADDRESSES: Submit written comments to Kitty M. Simonds, Executive Director, Western Pacific Fishery Management Council, 1164 Bishop St., Suite 1400, Honolulu, HI 96813, and/or William L. Robinson, Administrator, Pacific Islands Regional Office (PIRO), NMFS, 1601 Kapiolani Blvd., Suite 1110, Honolulu, HI 96814. You may submit comments to the Council via facsimile (fax) at 808-522-8226 or PIRO at 808-973-2941. You may also submit comments via e-mail to scopePEISecosystem@noaa.gov. Include in the subject line the following document identifier: “scope ecosystem PEIS.” See SUPPLEMENTARY INFORMATION for specific dates, times, and locations of hearings.

FOR FURTHER INFORMATION CONTACT: Eric Kingma (Council) at 808-522-8220 or Alvin Katekaru (PIRO) at 808-973-2937.

SUPPLEMENTARY INFORMATION: Under the Magnuson-Stevens Fishery Conservation and Management Act (16 U.S.C. 1801 et seq.), the United States has exclusive management authority over all living marine resources found within the U.S. Exclusive Economic Zone (EEZ). The management of these resources, with the exception of sea birds and some marine mammals, is vested in the Secretary of Commerce (Secretary). Eight regional fishery management councils prepare fishery management plans for approval and implementation by the Secretary. The Council has the responsibility to prepare fishery management plans (FMPs) for fishery resources in the EEZ of the Western Pacific Region, which include the Federal waters surrounding Hawaii, the Territories of American Samoa and Guam, the Commonwealth of Northern Mariana Islands, and the Pacific Remote Island Areas (Palmyra Atoll, Kingman Reef, Jarvis Island, Baker Island, Howland Island, Johnston Atoll, Wake Island, and Midway Atoll).

The Council has developed FMPs for the following fisheries: bottomfish and seamount groundfish, coral reef ecosystems, crustaceans, pelagics, and precious corals. At its 123rd meeting (June 2004), the Council decided to initiate a process to develop fishery ecosystem management plans (FEMPs), thereby managing fisheries within an ecosystem context. Thus, the primary objective of the PEIS is to serve as a broad-scale planning tool for the Council's shift toward ecosystem-based management, and ultimately the development and implementation of FMPs, if approved by the Secretary, for managed fisheries of the Western Pacific Region. The scope of the PEIS analysis will, among other things, describe the management, monitoring, and conduct of fisheries FMPs of the Western Pacific Region; examine various options for managing fisheries within an ecosystem context; consider the potential impacts of ecosystem-based management on target species, non-target species, essential fish habitat, protected species; and describe mechanisms for community involvement and participation in the management of local fishery resources.

NEPA requires preparation of an environmental impact statement for any major Federal action significantly impacting the quality of the human environment. Regulations implementing NEPA at 40 CFR 1502.4(b) state:

Environmental impact statements may be prepared, and are sometimes required, for broad Federal actions such as adoption of new agency programs or regulations. Agencies shall prepare statements on broad actions so that they are relevant to policy and are timed to coincide with meaningful points in agency planning and decision making.

Under 40 CFR 1508.25(a), cumulative and connected actions require the development of a PEIS. However, relevant case law since the promulgation of NEPA has further expanded the PEIS requirement to: (1) actions relating to broad program or regional planning and, (2) when there are cumulative or synergistic environmental impacts upon the environment from past, present, or reasonably foreseeable future actions. In this regard, the PEIS serves as an analytical tool for regional planning and potential implementation of an ecosystem-based management regime in the Western Pacific.

Alternatives

The Council and NMFS are conducting scoping meetings to establish a reasonable range of alternatives. Preliminary alternatives have been drawn from the following categories: (1) FEMP boundaries (e.g. archipelagic vs. island-by-island),(2) management unit species (e.g., multi-species linkages, (3) environmental indicators (e.g., productivity cycles), (4) the role of communities in ecosystem-based management (e.g., monitoring) and (5) the Council process relating to advisory body structures (e.g., sector specific representation vs. ecosystem boundary representation). In addition to developing possible alternatives, the scoping meetings will serve to identify and eliminate the issues which are not significant or which have been covered by prior environmental review.

Public Involvement

Public scoping is an early and open process for determining the scope of issues to be addressed. A principal objective of the scoping and public involvement process is to identify a reasonable range of management alternatives that, with adequate analysis, will delineate critical issues and provide a clear basis for distinguishing between those alternatives and selecting a preferred alternative.

Other Issues to be Discussed

In order to broaden the public scoping opportunity described above, the Council and NMFS will also solicit public comments on the following issues: marine mammal mitigation measures, blue marlin, bigeye and yellowfin tuna management, and c) recreational fisheries data collection. Depending on public comments received and subsequent initial Council action, these issues may require the preparation of an EIS. If it is decided that an EIS will be prepared for any of the issues listed above, a corresponding Notice of Intent will published in the Federal Register.

Dates, Times, and Locations (island and address) for Public Scoping Meetings

1. Hilo, HI — Wednesday, October 27, 2004, from 6-9 p.m. at the Naniloa Hotel, 93 Banyon DR, Hilo, HI 96720;

2. Kona, HI — Thursday, October 28, 2004, from 6-9 p.m. at the King Kamehameha Hotel, 75-5660 Palani Rd., Kona, HI 96740;

3. Oahu, HI — Monday, November 1, 2004, from 6-9 p.m. at the Ala Moana Hotel, 410 Atkinson Dr., Honolulu, HI 96815;

4. Kauai, HI — Tuesday, November 2, 2004, from 6-9 p.m. at the Chiefess Kamakahelei Middle School, 4431 Nuhou St., Lihue, HI 96766;

5. Maui, HI — Wednesday, November 3, 2004, from 6-9 p.m. at the Maui Beach Hotel, 170 Kaahumanu Ave., Kahului, HI 96732;

6. Saipan, CNMI — Wednesday, November 17, 2004, from 6-9 p.m. at the Pedro P. Tenorio Multipurpose Building, Susupe, CNMI 96950;

7. Hagatna, Guam — Thursday, November 18, 2004 from 6-9 p.m. at the Guam Fishermen's Cooperative, Perez Marina, Hagatna, Guam 96932; and

8. Pago Pago, American Samoa — Wednesday, December 8, 2004, from 7-9 p.m. at the Department of Marine Resources and Wildlife Conference Room, Pago Pago, American Samoa 96799.

Special Accommodations

These meetings are physically accessible to people with disabilities. Requests for sign language interpretation or other auxiliary aids should be directed to Kitty M. Simonds, 808-522-8220 (voice) or 808-522-8226 (fax), at least 5 days prior to the meeting date.

Authority: 16 U.S.C. 1801 et seq.

Dated: October 13, 2004.
Alan D. Risenhoover,
Acting Director, Office of Sustainable Fisheries, National Marine Fisheries Service.

[FR Doc. 04-23280 Filed 10-15-04; 8:45 am]

BILLING CODE 3510-22-S